FEDERAL MARITIME COMMISSION

Notice of Agreements Filed

The Commission hereby gives notice of the filing of the following agreements under the Shipping Act of 1984. Interested parties may obtain copies of agreements by contacting the Commission's Office of Agreements at 202-523-5793 or via email at tradeanalysis@fmc.gov. Interested parties may submit comments on an agreement to the Secretary, Federal Maritime Commission, Washington, DC 20573, within 10 days of the date this notice appears in the Federal Register.

Agreement No.: 011284-057.

Title: Ocean Carrier Equipment Management Association Agreement (“OCEMA”).

Parties: APL Co. Pte. Ltd.; American President Lines, Ltd.; A.P. Moller-Maersk A/S, trading under the name of Maersk Sealand; CMA CGM, S.A.; Compania Sudamericana de Vapores, S.A.; CP Ships (USA) LLC; Evergreen Marine Corp. (Taiwan) Ltd.; Hanjin Shipping Co., Ltd.; Hamburg-Süd; Hapag-Lloyd Container Linie GmbH; Hyundai Merchant Marine Co. Ltd.; Mitsui O.S.K. Lines Ltd.; Contship Containerlines, a division of CP Ships (UK) Limited; Australia-New Zealand Direct Line, a division of CP Ships (UK) Limited; Orient Overseas Container Line Limited; P&O Nedlloyd Limited; P&O Nedlloyd B.V.; Nippon Yusen Kaisha Line; Yangming Marine Transport Corp.; COSCO Containerlines Company Limited; and Kawasaki Kisen Kaisha, Ltd.

Filing Party: Jeffrey F. Lawrence, Esq.; and Donald J. Kassilke, Esq.; Sher & Blackwell LLP; 1850 M Street, NW., Suite 900; Washington, DC 20036.

Synopsis: The agreement changes the name of Lykes Lines Limited LLC to CP Ships (USA) LLC and deletes TMM Lines Limited LLC as a party to the agreement.

Agreement No.: 011435-010.

Title: APL/CP Ships Space Charter Agreement.

Parties: American President Lines, Ltd.; APL Co. Pte Ltd.; CP Ships (USA) LLC.

Filing Party: Wayne R. Rohde, Esq.; Sher & Blackwell; 1850 M Street, NW., Suite 900; Washington, DC 20036.

Synopsis: The amendment changes the name of Lykes Lines Limited, LLC to CP Ships (USA) LLC and deletes TMM Lines Limited, LLC as a party to the agreement.

Agreement No.: 011539-012.

Title: Montemar/Lykes/TMM Space Charter and Sailing Agreement.

Parties: Lykes Lines Limited, LLC; Montemar Maritima S.A.; and TMM Lines Limited, LLC.

Filing Party: Wayne R. Rohde, Esquire; Sher & Blackwell, LLP; 1850 M Street, NW.; Suite 900; Washington, DC 20036.

Synopsis: The subject modification changes Lykes' name to CP Ships (USA) LLC effective June 1, 2005, deletes TMM as a party effective July 1, 2005, adds a new Article 7.10 to facilitate the transition, changes the agreement name, and restates the agreement.

Agreement No.: 011656-002.

Title: West Coast Industrial Express Joint Service Agreement.

Parties: Associated Transport Line, LLC; Industrial Maritime Carriers, LLC; ATL Investments Ltd.; West Coast Industrial Express, L.L.C.

Filing Party: Wade S. Hooker, Esq.; 211 Central Park W; New York, NY 10024.

Synopsis: The amendment substitutes Industrial Maritime Carriers, LLC for Industrial Maritime Carriers (U.S.A.) Inc. as a party to the agreement.

Agreement No.: 011707-004.

Title: Gulf/South America Discussion Agreement.

Parties: Associated Transport Line, LLC; ATL Investments Ltd.; Industrial Maritime Carriers (U.S.A.) Inc.; and Seaboard Marine Ltd.

Filing Party: Wade S. Hooker, Esq.; 211 Central Park W; New York, NY 10024.

Synopsis: The amendment substitutes Industrial Maritime Carriers, LLC for Industrial Maritime Carriers (U.S.A.) Inc. as a party to the agreement.

Agreement No.: 011715-003.

Title: IMC/ATL Space Charter and Sailing Agreement.

Parties: Associated Transport Line, LLC; Industrial Maritime Carriers (U.S.A.) Inc.; Industrial Maritime Carriers, LLC.

Filing Party: Wade S. Hooker, Esq.; 211 Central Park W; New York, NY 10024.

Synopsis: The amendment substitutes Industrial Maritime Carriers, LLC for Industrial Maritime Carriers (U.S.A.) Inc. as a party to the agreement and restates the agreement for housekeeping purposes.

Agreement No.: 011743-004.

Title: Global Transportation Network Agreement.

Parties: APL Co. Pte. Ltd.; American President Lines, Ltd.; Companhia Libra de Navegacao; Compania Sud-Americana de Vapores, S.A.; CP Ships (U.K.) Ltd.; Crowley Liner Services, Inc.; Hanjin Shipping Co., Ltd.; Kawasaki Kisen Kaisha, Ltd.; Lykes Lines Limited, LLC; Mitsui O.S.K. Lines, Ltd.; Montemar Maritima, S.A.; Norasia Container Lines Limited; Senator Lines GMBH; TMM Lines Limited, LLC; Wan Hai Lines Ltd.; Yangming Marine Transport Corp.; Zim Integrated Shipping Services, Ltd.;

Filing Party: Eric C. Jeffrey, Esq.; Goodwin Procter LLP; 901 New York Avenue, NW.; Washington, DC 20001.

Synopsis: The amendment changes Zim Israel Navigation Company's name to Zim Integrated Shipping Services, Ltd.

Agreement No.: 011914.

Title: CP/CCNI Med-Gulf Space Charter Agreement.

Parties: CP Ships (USA), LLC and Compania Chilena de Navegacion Interoceanica.

Filing Party: Wayne R. Rohde, Esq.; Sher & Blackwell LLP; 1850 M Street, NW; Washington, DC 20036.

Synopsis: The agreement authorizes Lykes to charter space to CCNI in the trade between the U.S. Gulf Coast/Mexico and Italy, Malta and Spain and between the U.S. Gulf Coast, Miami, and Mexico.

By Order of the Federal Maritime Commission.
Dated: May 20, 2005.
Bryant L VanBrakle,
Secretary.

[FR Doc. 05-10442 Filed 5-24-05; 8:45 am]

BILLING CODE 6730-01-P